DEPARTMENT OF DEFENSE

Department of the Army, Army Corps of Engineers

Notice of Intent To Prepare an Environmental Impact Statement for the Willamette Valley System Operations and Maintenance

AGENCY: Department of the Army, U.S. Army Corps of Engineers, DoD.

ACTION: Notice of intent.

SUMMARY: The Portland District, U.S. Army Corps of Engineers (Corps) intends to prepare an Environmental Impact Statement (EIS) to address the continued operations and maintenance of the Willamette Valley System (WVS) in accordance with authorized project purposes; while meeting Endangered Species Act (ESA) obligations to avoid jeopardizing the continued existence of listed species.

The Corps will serve as the lead federal agency for purposes of the National Environmental Policy Act (NEPA).

DATES: Written comments for consideration in the development of the scope of the NEPA EIS are due to the addresses below no later than June 28, 2019.

ADDRESSES: Mailed comments may be sent to: U.S. Army Corps of Engineers, Portland District, P.O. Box 2946, Attn: CENWP-PME-E, Portland, OR 97208-2946. Email comments to: willamette.eis@usace.army.mil. All comments and materials received, including names and addresses, will become part of the administrative record and may be released to the public.

FOR FURTHER INFORMATION CONTACT: For questions regarding the EIS, or special accommodations for scoping process participation, please contact Suzanne Hill, Environmental Resources Specialist, (503) 808-4767.

SUPPLEMENTARY INFORMATION:

Background. The WVS consists of 13 multipurpose dams and reservoirs, riverbank protection projects in the Willamette River Basin in Oregon, and hatchery programs to mitigate for effects of the project on fish habitat. The most recent NEPA evaluation for the overall WVS operations and maintenance was an EIS completed in 1980. Since 1980, operations have been modified and structural improvements for fish passage and temperature control have been implemented to address effects of the WVS on ESA-listed fish. NEPA evaluations since the 1980 EIS have been project-specific. There is also new information relevant to the environmental impacts of operating the WVS. This EIS will evaluate the impacts of continued operations and maintenance of the WVS. The EIS will be prepared in accordance with NEPA, the Council on Environmental Quality's (CEQ) NEPA regulations (40 CFR parts 1500-1508), and the Corps' NEPA regulations (33 CFR part 230). The Corps has reinitiated formal consultation under Section 7 of the ESA on the National Marine Fisheries Service's 2008 Biological Opinion for the Willamette River Basin Flood Control Project. This NEPA process will inform the ESA Section 7 consultation process. Additionally, the Corps intends to initiate consultation under Section 106 of the National Historic Preservation Act. The Corps anticipates that the draft EIS will be made available for public comment in Fall/Winter 2020.

The Corps has invited the following Tribes and federal and state agencies to participate as cooperating agencies for the EIS: Confederated Tribes of Warm Springs, Confederated Tribes of Grand Ronde, Confederated Tribes of Siletz Indians, Cow Creek Band of Umpqua Tribe of Indians, Bonneville Power Administration, U.S. Bureau of Land Management, National Marine Fisheries Service, U.S. Bureau of Reclamation, U.S. Forest Service, U.S. Fish and Wildlife Service, Oregon Department of Fish and Wildlife, Oregon Water Resources Department, Oregon Parks and Recreation Department, Oregon Department of Environmental Quality, Oregon Department of Land Conservation and Development, Oregon Department of State Lands, and Oregon Department of Agriculture.

Alternatives. The EIS will evaluate a no action alternative and action alternatives. The no action alternative is the current management direction for the WVS. Action alternatives will be composed of various measures for continued operations and maintenance of the WVS, as well as measures that will be developed to meet ESA obligations to avoid jeopardizing the continued existence of listed species. Comments received during the scoping comment period will inform the development of action alternatives.

Scoping Process/Public Involvement. The Corps invites all affected federal, state, and local agencies, affected Native American Tribes, other interested parties, and the general public to participate in the NEPA process during development of the EIS. The purpose of the public scoping process is to provide information to the public, narrow the scope of analysis to significant environmental issues, serve as a mechanism to solicit agency and public input on alternatives and issues of concern, and ensure full and open participation in scoping for the Draft EIS. Numerous public scoping meetings will be held during the scoping period. The specific dates, times, and locations of the meetings will be published on the Corps' project website: https://www.mwp.usace.army.mil/Locations/Willamette-Valley/Evaluation/.

This is not a notice for the public comment periods for the Cougar Downstream Passage and Detroit Downstream Passage projects; public comment periods for those projects will be noticed separately.

Documents and other important information related to the EIS will be available for review on the Corps' project website.

Aaron L. Dorf,
Colonel, Corps of Engineers, District Commander.

[FR Doc. 2019-06258 Filed 3-29-19; 8:45 am]

BILLING CODE 3720-58-P